Proclamation 8128 of April 19, 2007

Dutch-American Friendship Day, 2007

By the President of the United States of America

A Proclamation

On Dutch-American Friendship Day, we celebrate our longtime friendship with the Kingdom of the Netherlands and honor the many Dutch Americans who have made significant contributions to our country.

Our close partnership with the Netherlands dates back to the founding of our Nation, and it remains among our oldest continuous relationships. Many of the Pilgrims first sailed for the New World from a Dutch port, and when a small American warship approached the island of St. Eustatius in 1776, the Dutch port there gave the American flag its first friendly gun salute. A few years later, the Netherlands became one of the first nations to recognize the independence of the United States of America. The United States and the Netherlands are continuing that tradition of close cooperation in the 21st century, working together to bring hope and liberty to places where it has long been denied.

Dutch Americans have enriched the American experience and have helped write our history, strengthen our character, and shape our society. Today, we pay tribute to our allies in the Netherlands and recognize the proud citizens of Dutch ancestry who call America home.

NOW, THEREFORE, I, GEORGE W. BUSH, President of the United States of America, by virtue of the authority vested in me by the Constitution and laws of the United States, do hereby proclaim April 19, 2007, as Dutch-American Friendship Day. I encourage all Americans to celebrate our country's Dutch heritage and the many ways Dutch Americans have strengthened our Nation.

IN WITNESS WHEREOF, I have hereunto set my hand this nineteenth day of April, in the year of our Lord two thousand seven, and of the Independence of the United States of America the two hundred and thirty-first.

[FR Doc. 07-2058

Filed 4-23-07; 9:29 am]

Billing code 3195-01-P